DEPARTMENT OF STATE

[Public Notice 5860]

Shipping Coordinating Committee; Notice of Meeting

The Subcommittee on Dangerous Goods, Solid Cargos and Containers of the Shipping Coordinating Committee (SHC) will conduct an open meeting at 10 a.m. on Thursday, September 6, 2007, in Room 6103 of the United States Coast Guard Headquarters Building, 2100 Second Street, SW., Washington, DC 20593-0001. The primary purpose of the meeting is to prepare for the 12th Session of the International Maritime Organization (IMO) Sub-Committee on Dangerous Goods, Solid Cargoes and Containers to be held at the Central Hall Westminster in London, England from September 17 to September 21, 2007. Items of principal interest on the agenda are:

—Amendments to the International Maritime Dangerous Goods (IMDG) Code and Supplements including harmonization of the IMDG Code with the United Nations Recommendations on the Transport of Dangerous Goods.

—Amendments to the Code of Safe Practice for Solid Bulk Cargoes (BC Code) including evaluation of properties of solid bulk cargos and mandatory application of the BC Code.

—Casualty and incident reports and analysis.

—Review of the Code of Safety for Special Purpose Ships (SPS Code).

—Amendments to the Code of Safe Practice for Cargo Stowage and Securing (CSS Code).

—Extension of the Code of Practice for the Safe Unloading and Loading of Bulk Carriers (BLU Code) to include grain.

—Guidance on providing safe working conditions for securing of containers.

—Review of the Recommendations on the Safe Use of Pesticides in Ships.

—Application of requirements for dangerous goods in packaged form in the International Convention for the Safety of Life at Sea (SOLAS) and the 2000 High Speed Craft (HSC) Code.

—Guidance on protective clothing.

—Revision of the Code of Safe Practice for Ships Carrying Timber Deck Cargoes.

—Form and procedure for approval of the Cargo Securing Manual.

Members of the public may attend the meeting up to the seating capacity of the room. Interested persons may seek information by writing: Mr. R.C. Bornhorst, U.S. Coast Guard (CG-3PSO-3), Room 1210, 2100 Second Street, SW., Washington, DC 20593-0001 or by calling (202) 372-1426.

Dated: July 30, 2007.
Mark W. Skolnicki,
Executive Secretary, Shipping Coordinating Committee, Department of State.

[FR Doc. E7-15335 Filed 8-6-07; 8:45 am]

BILLING CODE 4710-09-P